DEPARTMENT OF LABOR

Employee Benefits Security Administration

29 CFR Part 2560

RIN 1210-AB24

Civil Penalties Under ERISA Section 502(c)(4)

Correction

In rule document Z8-31188 beginning on page 17 in the issue of Friday, January 2, 2009 make the following correction:

On page 17, in the second column, in the DATES heading, March 3, 2008 should read March 3, 2009.

[FR Doc. Z8-31188 Filed 1-14-09; 8:45 am]

BILLING CODE 1505-01-D